DEPARTMENT OF THE INTERIOR

National Park Service

General Management Plan Abbreviated Final Environmental Impact Statement Mojave National Preserve, California; Notice of Approval of Record of Decision

SUMMARY: The Department of the Interior, National Park Service has approved a Record of Decision for the General Management Plan and Abbreviated Final Environmental Impact Statement for Mojave National Preserve. The Record of Decision details the overall background of the conservation planning effort, a description of the decision made, synopses of alternatives considered, identification of the environmentally preferable alternative, the basis for the decision, findings on impairment of park resources and values, a discussion of measures to minimize environmental harm, and an overview of public and agency involvement in the information and analysis supporting preparation of the environmental impact statement (EIS).

The impetus for this planning effort was the passage of the California Desert Protection Act (CDPA) on October 31, 1994, which transferred over 3 million acres of California desert lands from the Bureau of Land Management (BLM) to the National Park Service and designated nearly 8 million acres of Wilderness on NPS and BLM lands. CDPA created Mojave National Preserve (Preserve) and redesignated Death Valley and Joshua Tree National Monuments as national parks. In response to anticipated changes in public lands management in the California desert, as well as the listing of the desert tortoise, increasing development, various public use pressures, and other factors, the National Park Service, BLM, and U.S. Fish and Wildlife Service (USFWS) desert managers decided to prepare updated or new management plans.

Decision (Selected Action)

As detailed in the Record of Decision, the National Park Service (NPS) will implement Alternative 1, the proposed general management plan (described in the Revised Draft Environmental Impact Statement and General Management Plan, dated July 2000, and as amended by the Abbreviated Final Environmental Impact Statement and General Management Plan, dated June 2001). Some adjustments to the hunting portion of the proposal have been made as a result of concerns expressed during the no-action period and in consultation with the California Department of Fish and Game and the USFWS. Changes in the hunting regulations will require further regulatory action. Cottontails and jackrabbits would be added to the list of species that may be hunted, and the NPS would seek to adjust the seasons to allow hunting only from September through January, in keeping with the goals of the Desert Tortoise Recovery Plan. The one-mile safety zone around developed areas has been dropped (except for Kelso Depot and Kelso Dunes) in favor or existing State and County regulations of 150 yards. The language regarding safety zones will be modified to adopt State and County regulations. The NPS would seek special regulations for the Preserve through the California Fish and Game Commission to implement the proposed hunting changes.

The selected plan was found to contain the best mix of programs, strategies, and actions for managing the Preserve, given varying mandates and diverse public opinion. The new General Management Plan (GMP) envisions the Preserve as a cultural landscape and natural environment (i.e., an arid ecosystem influenced by successive eras of human use dating back in historic and prehistoric time), where native desert ecosystems and processes are restored and protected for present and future generations. Protecting and perpetuating native species in a self-sustaining environment is a primary long-term goal. The GMP seeks to manage the Preserve to perpetuate the sense of discovery and adventure that currently exists, minimizing new development inside the Preserve to avoid proliferation of directional signs and new campgrounds or interpretive exhibits. The GMP envisions adjacent “gateway” communities as providing most visitor support services. The GMP also seeks to retain current opportunities for roadside and backcountry camping, and access to backcountry via existing primitive roads, consistent with the NPS mission. Planning of actions consistent with Wilderness will also be undertaken. Rehabilitation and partial restoration of the historic Kelso Depot and its use as a museum and interpretive facility is planned. The GMP also recognizes obligations to continue grazing, hunting, and existence of major utility corridors, where specifically charged to do so by Congress. The GMP acknowledges landowner capacity to develop private property, provided such development is not detrimental to the integrity of the Preserve or otherwise incompatible with the CDPA. Nearly 130,000 acres within the Preserve are in nonfederal ownership, and the GMP sets a goal of seeking funding to purchase property from willing sellers.

Other Alternatives Considered

In addition to Alternative 1 (selected actions highlighted above), other alternatives considered include existing management, and an optional management approach. The existing management alternative (Alternative 2) describes the continuation of current management strategies. It is commonly referred to as the no-action or status quo alternative. It provides a baseline from which to compare other alternatives, to evaluate the magnitude of proposed changes, and to measure the environmental effects of those changes. This no-action concept follows the guidance of the Council on Environmental Quality (CEQ), which describes such alternatives as no change from the existing management direction or level of management intensity. However, an agency not acting to adopt a general management plan does not mean that no management actions are taken. Since the Preserve is a relatively new unit of the national park system and no general management plan was in place, management of the unit has been done in accord with applicable federal regulations, NPS servicewide management policies, and subject-specific manuals and guidelines.

Consistent with the no-action alternative, no comprehensive cultural or natural resource protection program is in place. However, the Preserve has hired several staff, and funding for managing some programs, such as minerals management and burro removal, has been received. Existing staff cooperate on resource inventory and monitoring with neighboring desert parks, and staff also are involved with the Molycorp spill abatement, the Cadiz groundwater storage proposal, and the AT&T cable removal project. Such efforts are reactive to concerns after they arise, rather than being a part of a comprehensive program that is planned and funded. Existing visitor-administrative support services and facilities are being maintained in current locations, water systems have been improved, and vault toilets and picnic tables have been installed. There have been few improvements to existing structures and no change in road maintenance, although some minor road improvements have been done. No significant changes in existing recreation use would occur under this alternative. No action has occurred to protect Kelso Depot from fire or earthquakes, although planning for rehabilitation and partial restoration is underway, and the building is secured to prevent vandalism. Efforts continue for obtaining funding to acquire property from willing sellers and for properties where development is potentially detrimental to the integrity of the Preserve or otherwise incompatible with the CDPA.

The optional approach (Alternative 3) varies from the selected action in several respects, not limited to those noted below. Alternative 3 identifies additional tortoise recovery measures, including fencing of 100 miles of paved roads prevent tortoise from crossing roadways, designation of critical habitat in the Preserve as Desert Wildlife Management Areas (DWMA), not allowing dogs off leash for any purpose in DWMA's, permanently reducing the speed limit on park paved roads to 45 mph, and immediate action to begin raven removals. Areas of designated desert tortoise critical habitat currently subject to cattle grazing would be converted to ephemeral pastures and grazing would not be allowed on these pastures until ephemeral forage is at 230 lbs. per acre (and perennial AUM's reduced accordingly). In lieu of fencing the entire Clark Mountain unit boundary to exclude feral burros, this alternative proposes to fence springs and other water sources to limit attracting burros from adjacent BLM lands. Hunting of all species allowed under State law could occur from July to January. Power drill usage by rock climbers outside designated Wilderness would be allowed, and new bolts could be installed in Wilderness using hand tools. Recreational rock climbing would not be restricted in the vicinity of the Hole-in-the-Wall visitor center, except for the placement of bolts.

Alternative 3 would not restore the Kelso Depot; it would be modified to provide improved protection from fire and earthquakes, permanent comfort stations would be added, and exterior interpretive exhibits and panels would be installed. Existing information centers in Baker and Needles would be expanded in cooperation with other agencies, a visitor contact center would be established in the Cima area, and the NPS would seek to locate an interpretive ranger at Soda Springs to provide tours of the area.

Alternative 3 provides significantly more infrastructure inside the Preserve than any other alternative by increasing the number of sites at the existing Midhills and Hole-in-the-Wall campgrounds, and by developing three new semi-primitive campgrounds. This alternative also would construct a central field operations facility in the Cima area to provide office space, shop and storage space, housing and fire engine garage space for all park functions, and provide for constructing new employee housing throughout the Preserve to place employees closer to work sites. Emphasis would also be placed on constructing several formal wayside exhibits, interpretive displays, and formal hiking trails. However, adding such infrastructure was deemed to be inconsistent with the goals of retaining the Preserve visitor experience as it is now, which was also espoused by the Advisory Commission and local communities and reflected in public comment.

Environmentally Preferable Alternative

Alternatives which are “environmentally preferable” are considered by CEQ to be those actions or/and programs that in combination will entail least damage to the biological and physical environment, and which best protects, preserves, and enhances historic, cultural, and natural resources. Goals that characterize “environmentally preferable” were originally set forth in § 101 of the National Environmental Policy Act (NEPA). The environmentally preferable alternative for the Mojave National Preserve General Management Plan is based on these national environmental policy goals.

Alternative 1 was found to best realize the provisions of the national environmental policy stated in NEPA. This GMP will protect and enhance natural and cultural resources by laying out strategies, planning, inventorying and monitoring, and restoring disturbed ecosystems and historic resources. These actions will attain the widest range of beneficial uses of the environment without degradation, preserve important resources, and maintain a variety of individual choice for Preserve visitors. It will implement recovery measures for the threatened desert tortoise, fully removes exotic feral burros, presents strategies for management of grazing, mining and hunting, and provides for the rehabilitation and partial restoration of the nationally significant Kelso Depot. Alternative 1 also best reflects the expressed interests of the public in minimizing development in the Preserve that would detract from the setting and sense of self-discovery and adventure that currently exists. A summary of the comparative analysis of this alternative and others considered with respect to “environmentally preferred” is detailed in the Record of Decision.

Basis for Decision

The selected GMP provides overall direction for managing resources, facilities and development, and use of the Preserve. The GMP presents a logical, systematic and proactive approach to management of the Preserve in compliance with NPS laws, regulations and policies. The rationale for selection of alternative 1 over the no-action (alternative 2) is based on the environmental impacts that would be lessened by seeking funds and implementing activities identified in the proposed plan. Public comment was also considered in formulating the NPS preferred approach over alternative 3; in particular, funding of full removal of burros, implementing Desert Tortoise and Mojave Tui chub recovery actions, establishment of a cultural resource protection program, and development of visitor information centers and interpretive media to inform the public on desert ecosystems and protection measures. In addition, a strategy is outlined for the interim management of cattle grazing.

Protect and Enhance Cultural and Natural Resources: The selected GMP identifies goals and strategies to inventory and protect, where possible, air quality, visibility, night sky and natural ambient sound. These resources are key elements of the desert environment that are critical to an enjoyable visit to the Preserve. The GMP strives to protect water resources and water rights by seeking to restore damaged natural water sources and protect groundwater. The GMP describes cultural resource protection and management responsibilities, and proposes to inventory, preserve and protect paleontological, geological, cave and soil resources. Research would be encouraged to improve the means by which enhanced protection could be accomplished. These proactive strategies would also yield valuable interpretive and scientific data.

The GMP provides a more proactive approach to perpetuate native plant life (such as vascular plants, ferns, mosses, algae, fungi, and bacteria) as critical components of natural desert ecosystems. The GMP calls for inventory of all native plants and wildlife, and seeks to restore disturbed ecosystems, enhance habitat for sensitive species, eliminate exotic species where feasible and establish monitoring programs to serve as early warning systems for health of the system. Two key components of the natural resource protection strategy include the complete removal of all feral burros and the adoption of threatened desert tortoise and endangered Mojave tui chub recovery strategies. Since the burro is an exotic species and its presence is inconsistent with NPS management policies and the goal of a native, self-sustaining ecosystem, the GMP would result in fewer impacts to natural desert ecosystems. The complete fencing of Clark Mountains would further control impacts to natural resources from burros.

The GMP addresses numerous activities and strategies for implementing the desert tortoise recovery plan, and adopts recommendations of the 1994 Recovery Plan where feasible and not inconsistent with the CDPA. In addition, the NPS is to manage desert tortoise habitat inside the Preserve according to the recommendations of the Recovery Plan in partnership with BLM in an identical manner as the BLM's DWMA-classified lands. All drivers of vehicles are to be informed about tortoise presence, and the need for reduced speeds in limited areas or during spring rainy days when tortoises are more likely to be out on the roads. It's anticipated that this approach would result in more compliance with speed reductions than would universal speed limits throughout the paved road network. A coordinated interagency strategy is to be implemented desert-wide to foster greater consistency in dealing with raven populations throughout the area, potentially benefiting much more tortoise habitat. Finally, under the GMP cattle grazing could occur in critical habitat, except from March 15 to June 15, even in the absence of ephemeral forage, provided perennial utilization is below 30% (as determined through annual monitoring protocols). During this period desert tortoise are typically in their burrows.

The GMP outlines interim standards that must be followed by ranchers while a detailed grazing management plan is being developed by the Preserve. It also states the NPS preference to permanently retire grazing by working with third party conservation groups to acquire permits from willing sellers and donate them back to the NPS. The strategy also limits cattle grazing in desert tortoise critical habitat whenever sufficient ephemeral and perennial forage is not present. The GMP provides the greatest level of protection for park resources consistent with varying conflicting mandates: to allow grazing (CDPA); to remove grazing from critical habitat (Desert Tortoise Recovery Plan recommendation); and the NPS Organic Act to * * * conserve the scenery and the natural and historic objects and the wildlife therein * * * unimpaired for the enjoyment of future generations.”

Enhance Visitor Experience: The GMP provides for visitor use and enjoyment while encouraging opportunities for development in gateway communities. The public and advisory commission supported this direction rather than concentrating new visitor support facilities and ancillary infrastructure inside the Preserve. The GMP retains existing facilities, and even improves some, but would limit any new development in lieu of relying on gateway communities for visitor facilities. The GMP sets forth the goal that the Preserve remain a primitive place of self-discovery with new facilities primarily in gateway communities, but also calls for restoring the Kelso Depot to be used as a visitor center.

The GMP entails continuing recreational climbing activity while providing for resource protection by eliminating the use of power drills and limiting the replacement of anchors in wilderness areas. This also reduces visibility of climbing features by imposing restrictions on leaving of climbing support apparatus and blending of anchors. The GMP protects bighorn sheep during lambing through climbing limits on Clark Mountain at certain times of the year. These management actions would reduce impacts from climbing on park resources more than either the no action (under which none of these restrictions would occur) or optional approach (which would allow power drill use outside wilderness and would not limit replacement of existing bolts and other fixed anchors). The GMP enhances visitor enjoyment by providing for potential use of commercial guided tours on the Mojave Road for visitors not having an appropriate vehicle.

The GMP most effectively reconciles diverse public concerns relating to hunting by regulated hunting for upland game birds and big game during their established state seasons, and a limited season for small game (cottontails and jackrabbits only) consistent with desert tortoise recovery and the mission of the NPS to protect wildlife for future generations. Hunting throughout the Preserve is retained for most game species under state law, while eliminating non-game and furbearer (predator) hunting. The GMP more fully achieves the intent of the Recovery Plan with regard to hunting in the Preserve. USFWS has determined that small game hunting could be allowed, along with upland game birds and big game, without substantially altering the analysis of effects on the desert tortoise in the biological opinion.

Provide Effective Operations: The GMP emphasizes maximum use of existing structures and provides for limited new construction of facilities inside the Preserve, and proposes to use existing and acquired structures, improving and upgrading them where appropriate. Housing obtained via grazing permit acquisitions would be utilized for employee housing and interpretive facilities in order to provide onsite maintenance and security of the facilities. The GMP incurs the least impacts to currently undisturbed desert habitat and cultural landscape of the park, while still providing needed administrative facilities.

In summary, the selected GMP (Alternative 1) includes the most actions that are beneficial to the cultural and natural resources of Mojave and to the enjoyment of the Preserve. It is also the most responsive alternative to public input received during scoping and alternative development. The one exception is on hunting. Hunters generally supported alternative 2, while a substantial number of other commenters wanted hunting eliminated completely, an option not represented in the DEIS because of the CDPA mandate. A comparison of decision rationales pertaining to all three alternatives is detailed in the Record of Decision.

Findings on Impairment of Park Resources and Values

The NPS may not allow the impairment of park resources and values unless directly and specifically provided for by legislation or by the proclamation establishing the park. Impairment that is prohibited by the NPS Organic Act and the General Authorities Act is an impact that would harm the integrity of park resources or values, including opportunities that otherwise would be present for enjoyment of those resources or values (NPS Management Policies 2001). This policy does not prohibit impacts to park resources and values. The NPS has the discretion to allow a limited degree of impact when necessary and appropriate to fulfill the purposes of a park, so long as the impacts do not constitute impairment. In the case of the Preserve, it is noted that human activity and past development have resulted in the ongoing disruption of natural systems and processes for many years.

The NPS has determined that implementing Alternative 1 will not constitute an impairment to the Preserve's resources and values. This conclusion is based on thorough analysis of the environmental impacts described in the Revised Draft EIS/GMP, the Abbreviated Final EIS/GMP, with due consideration of public and agency comments and relevant research (pursuant to direction in NPS Management Policies, section 1.4). While the GMP may entail some minor negative impacts, in all cases these adverse impacts are the result of proactive strategies intended to quickly implement the NPS mission, policies and regulations in the management of the Preserve. None of the selected actions would result in impacts that would impair the integrity of park resources or values, including opportunities that would otherwise be present for the enjoyment of those resources or values. Overall, the GMP results in major benefits to park resources and values, opportunities for their enjoyment, and it does not result in their impairment.

The collective actions encompassed in Alternative 1 will serve as a means to manage the Preserve in a manner that would result in a protected native desert ecosystem that functions without interference from human activities, while allowing visitor use and Congressionally mandated resource consumptive activities. While some of these activities could result in resource impacts that seem contrary to the NPS preservation mission (e.g. hunting, grazing, mining), Congress specifically provides for these activities in the CDPA, still subject to other applicable laws and regulations. For example, any future mining operations would be required to undergo NPS review and environmental impact analysis under 36 CFR Part 9, Subpart A. A grazing management plan would be developed to manage cattle grazing activities so that park resources are protected. Constructing wayside exhibits, maintaining existing developments, or rehabilitating Kelso Depot could create minor impacts on some resources locally, but would not result in impairment. A summary of the comparative analysis of this alternative and others considered with respect to “impairment” is detailed in the Record of Decision.

Measures To Minimize Environmental Harm

The NPS has investigated all practical means to avoid or minimize environmental impacts that could result from implementing the selected action. The measures are incorporated into Alternative 1, and are addressed in both the Revised Draft EIS/GMP and Abbreviated Final EIS/GMP. A consistent set of desert tortoise mitigation measures would be applied to actions that result from this plan (see Appendix E in Revised Draft EIS/GMP). Monitoring and enforcement programs will oversee the implementation of mitigation measures. These programs will assure compliance monitoring; biological and cultural resource protection; traffic management, noise, and dust abatement; noxious weed control; pollution prevention measures; visitor safety and education; and other mitigation measures. Mitigation measures will also be applied to future actions that are guided by this plan. In addition, the NPS will conduct appropriate compliance reviews (i.e., National Environmental Policy Act, Endangered Species Act, National Historic Preservation Act, Wilderness Act, and so forth) for all future actions.

Background of Public and Interagency Involvement

Immediately following enactment of CDPA on October 31, the Preserve had no existing management plans or general “blueprint”, under which more detailed activity or implementation plans could occur. While not specific in nature, the new GMP focuses on purposes of the Preserve, its significant attributes, its mission in relation to the overall mission of the NPS, what activities are appropriate within these constraints, and resource protection strategies. It also provides guidelines for visitor use and development of facilities for visitor enjoyment and administration of the preserve. The goal of the GMP is to best manage the new unit to meet the Congressional intent as expressed in the CDPA and the mission of the NPS. It was the stated intention of this conservation planning effort to explore only alternatives that would result in an implementable management plan for the Preserve. Alternatives were ruled out of full consideration if they needed legislation before they could be implemented, are contrary to specific Congressional direction, were inconsistent with NPS regulations or policy, or could be financially infeasible—these would not serve the need of creating an immediate management plan for this new unit. These were among the considerations weighed in developing the purpose and need section for the EIS.

The conservation planning process began in 1995 with the selection of a GMP/EIS planning team, which was stationed at the Preserve headquarters in Barstow. The Notice of Intent for this effort was published in the Federal Register on September 5, 1995 announcing the beginning of the conservation planning process. The planning team conducted 20 public scoping meetings in September 1995 and April 1997 to gather information about public concerns and issues on management direction for the Preserve and BLM lands. In addition, a number of agency scoping meetings were also held. From this data and meetings with interested parties (such as county departments, special interest groups, state agencies, Native American tribes, etc.) and discussions with NPS and BLM staff, proposed management plans were developed.

In September 1998 the Mojave National Preserve Draft Environmental Impact Statement and General Management Plan was released for public review. Approximately 450 printed and 100 CD-ROM copies of the Draft EIS/GMP were distributed for review. The entire document was also posted on the Internet with links from the park's homepage and the Northern and Eastern Mojave planning page. A notice of filing of the Draft EIS/GMP was published in the Federal Register by the Environmental Protection Agency (EPA) on September 11, 1998 (FR 48727). Written comments were accepted from September 11, 1998 through January 15, 1999, a period of 127 days. Eleven public meetings were held in October 1998 throughout the planning region of southern California and southern Nevada. In addition, the planning team attended and participated in numerous meetings of the Mojave Advisory Commission to obtain their feedback, concerns, and direction regarding the development of the general management plan. The NPS received approximately 390 comment letters from government agencies, tribes, interest groups, and individuals. In addition, members of environmental groups (National Parks and Conservation Association, The Sierra Club, and The Wilderness Society) sent in approximately 1,800 identical postcards. Several additional letters and postcards were received after the closing date for public comments.

Due to the large number of substantial changes required as a result of public comment on the 1998 Draft EIS/GMP, the NPS decided to rewrite the document. In September 2000, a Revised Draft Environmental Impact Statement and General Management Plan was released for 92 days of public review. Responses to all written substantive comments on the 1998 Draft EIS/GMP were addressed in a separately bound report. The EPA published a notice of filing in the Federal Register on September 6, 2000 (FR 54064-54065). Eleven more public meetings on the revised draft plan were held in southern California and southern Nevada during October and November 2000. During the public comment period, a total of 202 written comments were received.

Upon review of public and agency comments regarding the Revised EIS/GMP, it was determined that no new substantive issues were raised, therefore, the NPS decided to prepare an Abbreviated Final EIS/GMP, dated June 2001. The abbreviated format for the Final EIS/GMP was used because the changes to the revised document were minor and confined primarily to factual corrections, which did not modify the analysis. Use of this format is in accord with regulations implementing the 1969 National Environmental Policy Act (40 CFR 1503.4[c]). This abbreviated format requires that the material in this document be integrated with the Revised Draft Environmental Impact Statement and General Management Plan to comprise a full and complete record of the environmental impact analysis, public and agency comment, and decisionmaking process.

Conclusion

Following the signing of this Record of Decision, the NPS will excerpt and print the final General Management Plan as a stand-alone document, which can be readily used by park staff and interested individuals and organizations as the “blueprint” for managing the Preserve over the next 10-15 years. The selected alternative was the agency preferred alternative and the environmentally preferred alternative as documented in the Abbreviated Final Environmental Impact Statement and General Management Plan, dated June 2001. Persons desiring a copy of the Presentation Plan when it becomes available, or the complete Record of Decision at this time, may contact the Superintendent, Mojave National Preserve, 222 E. Main St., Ste. 202, Barstow, California, 92311.

September 28, 2001.
Patricia L. Neubacher,
Acting Regional Director

[FR Doc. 02-8700 Filed 4-9-02; 8:45 am]

BILLING CODE 4310-70-P